ENVIRONMENTAL PROTECTION AGENCY

[OPP-2005-0091; FRL-7707-7]

The Association of American Pesticide Control Officials/State FIFRA Issues Research and Evaluation Group Working Committee on Water Quality and Pesticide Disposal; Notice of Public Meeting

AGENCY: Environmental Protection Agency (EPA).

ACTION: Notice.

SUMMARY: The Association of American Pesticide Control Officials (AAPCO)/State FIFRA Issues Research and Evaluation Group (SFIREG) Working Committee on Working Committee on Water Quality and Pesticide Disposal (WC/WQ&PD) will hold a 2-day meeting, beginning on May 2, 2005 and ending May 3, 2005. This notice announces the location and times for the meeting and sets forth the tentative agenda topics.

DATES: The meeting will be held on Monday, May 2, 2005 through Tuesday, May 3, 2005 from 8:30 a.m. to 5 p.m. on Monday, May 2, 2005 and 8:30 a.m. to 12 p.m. on Tuesday, May 3, 2005.

ADDRESSES: The meeting will be held at Doubletree Hotel, 300 Army Navy Drive, Arlington, VA.

FOR FURTHER INFORMATION CONTACT: Georgia A. McDuffie, Field and External Affairs Division] (7506C), Office of Pesticide Programs, Environmental Protection Agency, 1200 Pennsylvania Ave., NW., Washington, DC 20460-0001; telephone number: (703) 605-0195]; fax number: (703) 308-1850; e-mail address: mcduffie.georgia]@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you all parties interested in SFIREG information exchange relationship with EPA regarding important issues related to human health, environmental exposure to pesticides, and insight into EPA's decision-making process are invited and encouraged to attend the meetings and participate as appropriate. Potentially affected entities may include, but are not limited to:

Those persons who are or may be required to conduct testing of chemical substances under the Federal Food, Drug and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2005-0091. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although, not all docket materials may be available electronically, you may still access any of the publicly available docket materials through the docket facility identified in Unit I.B.1. Once in the system, select “search,” then key in the appropriate docket ID number.

II. Tentative Agenda

1. Results of state WQPD issue reporting system.

2. OPP/OECA budget cuts. Implications for pesticide field programs and state pesticide programs.

3. Performance measures: EPA's plans, state roles

4. Endangered species implementation update.

5. EPA interpretive statement on National Pollutant Discharge Elimination System (NPDES) permits for pesticide applications.

6. Pesticide disposal: Label statements, FIFRA-RCRA issues, container recycling.

7. Pesticide container security.

8. Pesticide container and containment rule.

9. Implementation of new active ingredient registration reviews by state lead agencies.

10. Atrazine monitoring/modeling update.

11. EPA fumigant cluster evaluation process.

12. California's PRESCRIBE system for endangered species restrictions.

13. Enantiomer-specific pesticide active ingredients.

14. Emergency powers for potable well cleanup.

15. State water quality training needs.

16. Office of Pesticide Programs and Office of Enforcement and Compliance Assurance Reports.

17. Wrap up and new issue.

List of Subjects

Environmental Protection Agency.

Dated: April 1, 2005.
William R. Diamond,
Director, Office of Pesticide Program Field and External Affairs Division.

[FR Doc. 05-7503 Filed 4-14-05; 8:45 am]

BILLING CODE 6560-50-S